DEPARTMENT OF THE INTERIOR

Bureau of Land Management

[LLNVW01000.L14400000.EQ0000.241A; N-98541, MO# 4500163159]

Notice of Realty Action: Recreation and Public Purposes Act Classification of Public Lands in Humboldt County, Nevada

AGENCY: Bureau of Land Management, Interior.

ACTION: Notice of realty action.

SUMMARY: The Bureau of Land Management (BLM), Humboldt River Field Office, has examined certain public lands in Humboldt County, Nevada, and has found them suitable for classification for conveyance to Humboldt County under the provisions of the Recreation and Public Purposes (R&PP) Act, as amended. Humboldt County currently operates a public shooting range that was patented pursuant to the Act of September 19, 1964, and recently applied for approximately 240 acres of adjoining public lands to expand the operation. The expansion would add a rifle range up to 1,000-yards, a buffer area, and an extended safety zone.

DATES: Submit written comments regarding this R&PP application and proposed classification on or before March 31, 2023. Comments may be mailed, or hand delivered to the BLM office address below, or faxed to (775) 623-1740. The BLM will not consider comments received via telephone calls or email.

ADDRESSES: Mail written comments to: Kathleen Rehberg, 5100 East Winnemucca Boulevard, Winnemucca, NV 89445. Detailed information including but not limited to, a proposed development and management plan and documentation relating to compliance with applicable environmental and cultural resource laws, is available for review during business hours, (7:30 a.m. to 4:30 p.m. Mountain Time), Monday through Friday, except during Federal holidays, at the Humboldt River Field Office, 5100 East Winnemucca Boulevard, Winnemucca, NV 89445 or online at https://eplanning.blm.gov/eplanning-ui/project/2014203/510.

FOR FURTHER INFORMATION CONTACT: Jenifer Barnett, Realty Specialist, Humboldt River Field Office, telephone at 775-623-1500, email at jbarnett@blm.gov; or you may contact the Humboldt River Field Office at the earlier-listed address. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Humboldt County currently operates a public shooting range that was patented pursuant to the Act of September 19, 1964 (43 U.S.C. 1421-1427) and recently applied for approximately 240 acres of adjoining public lands to expand the operation. The expansion would add a rifle range up to 1,000-yards, a buffer area, and an extended safety zone. The R&PP patent will include provisions consistent with 43 U.S.C. 869-2(b)(6), 43 CFR 2743.2-1(e), and BLM IM 2008-074, all of which require that under no circumstances will the land revert to the U.S. if it has “been used for solid waste disposal or for any other purpose . . . that may result in the disposal, placement, or release of any hazardous substance.”

The lands examined and identified as suitable for conveyance under the R&PP Act are legally described as:

Mount Diablo Meridian, Nevada

T. 37 N., R. 37 E.,

sec. 36, NE1/4 and N1/2SE1/4.

The area described contains 240 acres, according to the official plats of the surveys on file with the BLM.

Humboldt County is a political subdivision of the State of Nevada, and is, therefore, a qualified applicant under the R&PP Act. Humboldt County has not applied for more than the 6,400-acre limitation for recreation uses in a year. Humboldt County has submitted a statement describing the proposed use of the land in compliance with the regulations at 43 CFR 2741.4(b).

The lands are not needed for any Federal purposes. Conveyance of the lands for recreational or public purposes use is consistent (or in conformance) with the Winnemucca District Resource Management Plan (2015), as amended, and would be in the national interest.

All interested parties will receive a copy of this notice once it is published in the Federal Register. A copy of the Federal Register notice with information about this proposed realty action will be published in the newspaper of local circulation once a week for three consecutive weeks. In accordance with regulations at 43 CFR 2741, which addresses requirements and procedures for conveyances under the R&PP Act, this project does not require a public meeting.

Upon publication of this notice in the Federal Register, the lands will be segregated from all other forms of appropriation under the public land laws, including locations under the mining laws, except for lease or conveyance under the R&PP Act and leasing under the mineral leasing laws.

The conveyance of the land, when issued, will be subject to the following terms, conditions, and reservations:

1. A right-of-way thereon for ditches and canals constructed by the authority of the United States Act of August 30, 1890 (43 U.S.C. 945).

2. Provisions of the R&PP Act and to all applicable regulations of the Secretary of the Interior, including 43 U.S.C. 869-2(b)(6), 43 CFR 2743.2-1(e), and BLM IM 2008-074, all of which require that under no circumstances will the land revert to the U.S. if it has “been used for solid waste disposal or for any other purpose . . . that may result in the disposal, placement, or release of any hazardous substance.”

3. A limited reverter clause that may cause the land to revert to the United States if, at the end of 5 years after the date of conveyance, the land is not being used in accordance with the approved plan of development.

4. All mineral deposits in the land so patented, and the right to prospect for, mine, and remove such deposits from the same under applicable law and regulations as established by the Secretary of the Interior are reserved to the United States, together with all necessary access and exit rights.

5. Lease or conveyance of the parcel is subject to valid existing rights.

6. An appropriate indemnification clause protecting the United States from claims arising out of the lessee's/patentee's use, occupancy, or occupations on the leased/patented lands.

7. Any other reservations that the authorized officer determines appropriate to ensure public access and proper management of Federal lands and interests therein.

Interested persons may submit comments involving the suitability of the land for development of a shooting range. Comments on the classification are restricted to whether the land is physically suited for the proposal, whether the use will maximize the future use or uses of the land, whether the use is consistent with local planning and zoning, or if the use is consistent with State and Federal programs.

Interested persons may submit comments regarding the specific use and management proposed in the application and plan of development, whether the BLM followed proper administrative procedures in reaching the decision, or any other factor not directly related to the suitability of the lands for a shooting range.

Any adverse comments will be reviewed as protests by the BLM Nevada State Director who may sustain, vacate, or modify this realty action. In the absence of any adverse comments, the classification will become effective on April 17, 2023. The lands will not be offered for conveyance until after the classification becomes effective.

Before including your address, phone number, email address, or other personal identifying information in your comment, be advised that your entire comment—including your personal identifying information—may be made publicly available at any time. While you can ask us in your comment to withhold from public review your personal identifying information, we cannot guarantee that we will be able to do so.

(Authority: 43 CFR 2741.5)

Kathleen Rehberg,
Field Manager, Winnemucca District, Humboldt River Field Office.

[FR Doc. 2023-03121 Filed 2-13-23; 8:45 am]

BILLING CODE 4331-21-P